DEPARTMENT OF THE TREASURY

Submission for OMB Review; Comment Request

June 7, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 13, 2005, to be assured of consideration.

Internal Revenue Service (IRS)

OMB Number: 1545-0152.

Form Number: IRS Form 3115.

Type of Review: Extension.

Title: Application for Change in Accounting Method.

Description: Form 3115 is used by taxpayers who wish to change their method of computing their taxable income. The form is used by the IRS to determine if electing taxpayers have met the requirements and are able to change to the method requested.

Respondents: Business or other for-profit, individuals or households, not-for-profit institutions, farms.

Estimated Number of Respondents/Recordkeepers: 25,000.

Estimated Burden Hours Respondent/Recordkeeper
Form | Recordkeeping | Learning about the law or the form | Preparing and sending the form to the IRS
3115 | 38 hr., 29 min | 19 hr., 54 min | 23 hr., 48 min.
Schedule A | 3 hr., 21 min. | 1 hr., 51 min. | 3 hr., 11 min.
Schedule B | 1 hr., 25 min. | 30 min. | 33 min.
Schedule C | 5 hr., 1 min. | 45 min. | 2 hr., 4 min.
Schedule D | 27 hr., 30 min | 1 hr., 59 min. | 2 hr., 31 min.
Schedule E | 3 hr., 49 min. | 1 hr., 59 min. | 2 hr., 8 min.

Frequency of Response: On occasion, quarterly, other (when needed).

Estimated Total Reporting/Recordkeeping Burden: 1,388,850 hours.

OMB Number: 1545-1633.

Regulation Project Number: REG-209121-89 Final.

Type of Review: Extension.

Title: Certain Asset Transfers to a Tax-Exempt Entity.

Description: The written representation requested from a tax-exempt entity in regulations section 1.337(d)-4(b)(1)(A) concerns its plans to use assets received from a taxable corporation in a taxable unrelated trade or business. The taxable corporation is not taxable on gain if the assets are used in a taxable unrelated trade or business.

Respondents: Business or other for-profit, not-for-profit institutions.

Estimated Number of Respondents: 25.

Estimated Burden Hours Respondent: 5 hours.

Frequency of Response: Other (once).

Estimated Total Reporting Burden: 125 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Lois K. Holland,
Treasury PRA Clearance Officer.

[FR Doc. 05-11657 Filed 6-10-05; 8:45 am]

BILLING CODE 4830-01-P